DEPARTMENT OF ENERGY

Federal Energy Regulatory Commission

Combined Notice of Filings #1

Take notice that the Commission received the following electric corporate filings:

Docket Numbers: EC22-36-000.

Applicants: Borderlands Wind, LLC.

Description: Application for Authorization Under section 203 of the Federal Power Act of Borderlands Wind, LLC.

Filed Date: 1/19/22.

Accession Number: 20220119-5162.

Comment Date: 5 p.m. ET 2/9/22.

Take notice that the Commission received the following electric rate filings:

Docket Numbers: ER12-1740-004.

Applicants: Rippey Wind Energy LLC.

Description: Notice of Non-Material Change in Status of Rippey Wind Energy LLC.

Filed Date: 1/18/22.

Accession Number: 20220118-5293.

Comment Date: 5 p.m. ET 2/8/22.

Docket Numbers: ER20-1720-003.

Applicants: Southern California Edison Company.

Description: Compliance filing: Order 864 ADIT Compliance Filing to be effective 1/27/2020.

Filed Date: 1/18/22.

Accession Number: 20220118-5148.

Comment Date: 5 p.m. ET 2/8/22.

Docket Numbers: ER22-837-000.

Applicants: Puget Sound Energy, Inc.

Description: § 205(d) Rate Filing: Boeing 449 Amendments to be effective 12/18/2021.

Filed Date: 1/18/22.

Accession Number: 20220118-5212.

Comment Date: 5 p.m. ET 2/8/22.

Docket Numbers: ER22-838-000.

Applicants: PJM Interconnection, L.L.C.

Description: § 205(d) Rate Filing: Original WMPA, Service Agreement No. 6322; Queue No. AG2-394 to be effective 12/21/2021.

Filed Date: 1/19/22.

Accession Number: 20220119-5017.

Comment Date: 5 p.m. ET 2/9/22.

Docket Numbers: ER22-839-000.

Applicants: Copper Mountain Solar 5, LLC.

Description: Baseline eTariff Filing: Reactive Power Compensation Baseline to be effective 1/20/2022.

Filed Date: 1/19/22.

Accession Number: 20220119-5019.

Comment Date: 5 p.m. ET 2/9/22.

Docket Numbers: ER22-840-000.

Applicants: Battle Mountain SP, LLC.

Description: Baseline eTariff Filing: Reactive Power Compensation Baseline to be effective 1/20/2022.

Filed Date: 1/19/22.

Accession Number: 20220119-5022.

Comment Date: 5 p.m. ET 2/9/22.

Docket Numbers: ER22-841-000.

Applicants: Spring Valley Wind LLC.

Description: Baseline eTariff Filing: Reactive Power Compensation Baseline to be effective 1/20/2022.

Filed Date: 1/19/22.

Accession Number: 20220119-5031.

Comment Date: 5 p.m. ET 2/9/22.

Docket Numbers: ER22-842-000.

Applicants: PJM Interconnection, L.L.C.

Description: § 205(d) Rate Filing: Amendment to WMPA, SA No. 5666; Queue No. AF1-033 (amend) to be effective 5/28/2020.

Filed Date: 1/19/22.

Accession Number: 20220119-5102.

Comment Date: 5 p.m. ET 2/9/22.

Docket Numbers: ER22-843-000.

Applicants: Entergy Louisiana, LLC, Entergy Mississippi, LLC, Entergy New Orleans, LLC, Entergy Services, LLC, Entergy Texas, Inc., Entergy Arkansas, LLC.

Description: § 205(d) Rate Filing: Entergy Louisiana, LLC submits tariff filing per 35.13(a)(2)(iii: EAL-MSS-4 Replacement Tariff to be effective 8/1/2021.

Filed Date: 1/19/22.

Accession Number: 20220119-5137.

Comment Date: 5 p.m. ET 2/9/22.

Docket Numbers: ER22-844-000.

Applicants: California Independent System Operator Corporation.

Description: § 205(d) Rate Filing: 2022-01-19 Maximum Import Capability Enhancements to be effective 3/21/2022.

Filed Date: 1/19/22.

Accession Number: 20220119-5149.

Comment Date: 5 p.m. ET 2/9/22.

Take notice that the Commission received the following public utility holding company filings:

Docket Numbers: PH22-6-000.

Applicants: LS Power Development, LLC.

Description: LS Power Development, LLC submits FERC 65-B Notice of Change in Fact to Waiver Notification.

Filed Date: 1/18/22.

Accession Number: 20220118-5291.

Comment Date: 5 p.m. ET 2/8/22.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 19, 2022.
Debbie-Anne A. Reese,
Deputy Secretary.

[FR Doc. 2022-01379 Filed 1-24-22; 8:45 am]

BILLING CODE 6717-01-P